DEPARTMENT OF ENERGY

Federal Energy Regulatory Commission

Combined Notice of Filings #1

June 30, 2009.

Take notice that the Commission received the following electric rate filings:

Docket Numbers: ER07-157-008; ER98-4159-018; ER04-268-015; ER06-398-012; ER06-399-012.

Applicants: Macquarie Cook Power Inc., Duquesne Light Company, Duquesne Power, L.P., Duquesne Keystone, LLC, Duquesne Conemaugh, LLC.

Description: Macquarie Cook Power Inc et al submits its Order 697 Compliance Filing and Category 1 Seller classification.

Filed Date: 06/29/2009.

Accession Number: 20090630-0014.

Comment Date: 5 p.m. Eastern Time on Monday, July 20, 2009.

Docket Numbers: ER09-730-002.

Applicants: PJM Interconnection, LLC.

Description: PJM Interconnection, LLC submits the attached revised PJM Open Access Transmission Tariff sheets to comply with the directives in the FERC 5/29/09 Order Accepting Tariff Revisions Subject to Conditions in this proceeding.

Filed Date: 06/29/2009.

Accession Number: 20090630-0003.

Comment Date: 5 p.m. Eastern Time on Monday, July 20, 2009.

Docket Numbers: ER09-906-001.

Applicants: Midwest Independent Transmission System Operator, Inc.

Description: Midwest Independent Transmission System Operator, Inc submits an amendment to their tariff filing and response to FERC's 5/21/09 letter requiring additional information.

Filed Date: 06/29/2009.

Accession Number: 20090630-0004.

Comment Date: 5 p.m. Eastern Time on Monday, July 20, 2009.

Docket Numbers: ER09-934-002.

Applicants: Bangor Hydro-Electric Company.

Description: Bangor Hydro-Electric Company submits revised Attachment P to Schedule 21-BHE.

Filed Date: 06/29/2009.

Accession Number: 20090630-0002.

Comment Date: 5 p.m. Eastern Time on Monday, July 20, 2009.

Docket Numbers: ER09-1113-002.

Applcants: RRI Energy Ormond Beach, Inc.

Description: RRI Energy Coolwater, Inc submits Substitute Second Revised Sheet 1 et al to its Fourth Revised FERC Electric Rate Schedule 1.

Filed Date: 06/29/2009.

Accession Number: 20090630-0015.

Comment Date: 5 p.m. Eastern Time on Monday, July 20, 2009.

Docket Numbers: ER09-1365-000.

Applicants: Alpena Power Generation, LLC.

Description: Alpenda Power Generation, LLC submits notice of cancellation of its market based rate tariff.

Filed Date: 06/29/2009.

Accession Number: 20090630-0021.

Comment Date: 5 p.m. Eastern Time on Monday, July 20, 2009.

Docket Numbers: ER09-1366-000.

Applicants: Central Maine Power Company.

Description: Central Maine Power Company submits Engineering and Procurement Agreement between CMP and Record Hill LLC.

Filed Date: 06/29/2009.

Accession Number: 20090630-0022.

Comment Date: 5 p.m. Eastern Time on Monday, July 20, 2009.

Docket Numbers: ER09-1367-000.

Applicants: MidAmerican Energy Company.

Description: MidAmerican Energy Company submits Facilities Agreement with ITC Midwest LLC.

Filed Date: 06/29/2009.

Accession Number: 20090630-0023.

Comment Date: 5 p.m. Eastern Time on Monday, July 20, 2009.

Docket Numbers: ER09-1368-000.

Applicants: New York State Electric & Gas Corporation.

Description: New York State Electric & Gas Corporation submits supplement to Rate Schedule FERC No 200- Facilities Agreement between New York State Electric & Gas Corporation and the New York Power Authority.

Filed Date: 06/29/2009.

Accession Number: 20090630-0024.

Comment Date: 5 p.m. Eastern Time on Monday, July 20, 2009.

Docket Numbers: ER09-1369-000.

Applicants: Midwest Independent Transmission System Operator, Inc.

Description: Midwest Independent Transmission System Operator, Inc submits revisions to Schedule 7-Long Term Firm and Short Term Firm Point to Point et al.

Filed Date: 06/29/2009.

Accession Number: 20090630-0025.

Comment Date: 5 p.m. Eastern Time on Monday, July 20, 2009.

Take notice that the Commission received the following electric reliability filings:

Docket Numbers: RR06-1-022; RR07-7-008.

Applicants: North American Electric Reliability Corporation; Western Electricity Coordinating Council.

Description: Report of the North American Electric Reliability Corporation and Western Electricity Coordinating Council in Response to Paragraph 230 of March 21, 2008 Commission Order.

Filed Date: 06/29/2009

Accession Number: 20090629-5244.

Comment Date: 5 p.m. Eastern Time on Monday, July 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-16262 Filed 7-8-09; 8:45 am]

BILLING CODE P